DEPARTMENT OF HEALTH AND HUMAN SERVICES

National Institutes of Health

Center for Scientific Review; Amended Notice of Meeting

Notice is hereby given of a change in the meeting of the Surgery, Anesthesiology and Trauma Study Section, June 14, 2006, 1 p.m. to June 15, 2006, 3 p.m., DoubleTree Hotel, 8120 Wisconsin Avenue, Bethesda, MD 20814 which was published in the Federal Register on May 12, 2006, 71 FR 27740.

The meeting will be held at the Clarion Bethesda Park, 8400 Wisconsin Avenue, Bethesda, MD 20814. The meeting dates and time remain the same. The meeting is closed to the public.

Dated: June 2, 2006.
Anna Snouffer,
Acting Director, Office of Federal Advisory Committee Policy.

[FR Doc. 06-5268 Filed 6-8-06; 8:45 am]

BILLING CODE 4140-01-M